DEPARTMENT OF ENERGY

Federal Energy Regulatory Commission

Combined Notice of Filings #1

Take notice that the Commission received the following electric corporate filings:

Docket Numbers: EC18-75-000.

Applicants: Stuttgart Solar, LLC.

Description: Application of Stuttgart Solar, LLC for Authorization under Section 203 of the Federal Power Act.

Filed Date: 3/23/18.

Accession Number: 20180323-5194.

Comments Due: 5 p.m. ET 4/13/18.

Take notice that the Commission received the following exempt wholesale generator filings:

Docket Numbers: EG18-64-000.

Applicants: SP Sandhills Solar, LLC.

Description: Self-Certification of EG or FC of SP Sandhills Solar, LLC.

Filed Date: 3/23/18.

Accession Number: 20180323-5159.

Comments Due: 5 p.m. ET 4/13/18.

Docket Numbers: EG18-65-000.

Applicants: SP Butler Solar, LLC.

Description: Self-Certification of EG or FC of SP Butler Solar, LLC.

Filed Date: 3/23/18.

Accession Number: 20180323-5160.

Comments Due: 5 p.m. ET 4/13/18.

Docket Numbers: EG18-66-000.

Applicants: SP Pawpaw Solar, LLC.

Description: Self-Certification of EG or FC of SP Pawpaw Solar, LLC.

Filed Date: 3/23/18.

Accession Number: 20180323-5161.

Comments Due: 5 p.m. ET 4/13/18.

Docket Numbers: EG18-67-000.

Applicants: SP Decatur Parkway Solar, LLC.

Description: Self-Certification of EG or FC of SP Decatur Parkway Solar, LLC.

Filed Date: 3/23/18.

Accession Number: 20180323-5162.

Comments Due: 5 p.m. ET 4/13/18.

Take notice that the Commission received the following electric rate filings:

Docket Numbers: ER10-1437-006.

Applicants: Tampa Electric Company.

Description: Supplement to June 30, 2017 Triennial Market Power Update for the Southeast Region [Exhibit TEC11] of Tampa Electric Company.

Filed Date: 3/22/18.

Accession Number: 20180322-5304.

Comments Due: 5 p.m. ET 4/12/18.

Docket Numbers: ER10-2465-010; ER11-2657-011; ER11-2107-015; ER11-2108-015.

Applicants: Milford Wind Corridor Phase I, LLC., Milford Wind Corridor Phase II, LLC., North Community Turbines LLC., North Wind Turbines LLC.

Description: Notice of Non-Material Change in Status of Milford Wind Corridor Phase I, LLC., et al.

Filed Date: 3/22/18.

Accession Number: 20180322-5306.

Comments Due: 5 p.m. ET 4/12/18.

Docket Numbers: ER17-775-003.

Applicants: PJM Interconnection, L.L.C.

Description: Compliance filing: Further Compliance Filing Pursuant to 2/21/18 Order in Docket No. ER17-775 to be effective 5/11/2017.

Filed Date: 3/23/18.

Accession Number: 20180323-5158.

Comments Due: 5 p.m. ET 4/13/18.

Docket Numbers: ER18-1168-000.

Applicants: New York Independent System Operator, Inc.

Description: § 205(d) Rate Filing: NYISO 205 filing re: market party fuel cost adjustments to be effective5/23/2018.

Filed Date: 3/23/18.

Accession Number: 20180323-5148.

Comments Due: 5 p.m. ET 4/13/18.

Docket Numbers: ER18-1169-000.

Applicants: California Independent System Operator Corporation.

Description: § 205(d) Rate Filing: 2018-03-23 Commitment Cost Enhancements Phase 3 Amendment to be effective 11/1/2018.

Filed Date: 3/23/18.

Accession Number: 20180323-5168.

Comments Due: 5 p.m. ET 4/13/18.

Docket Numbers: ER18-1170-000.

Applicants: NSTAR Electric Company.

Description: § 205(d) Rate Filing: Transfer Agreement between NSTAR and NEMC for the transfer of CMEEC's Use Rights to be effective 5/23/2018.

Filed Date: 3/23/18.

Accession Number: 20180323-5173.

Comments Due: 5 p.m. ET 4/13/18.

Docket Numbers: ER18-1171-000.

Applicants: Tampa Electric Company.

Description: § 205(d) Rate Filing: LGIA IRS Update to be effective3/27/2018.

Filed Date: 3/26/18.

Accession Number: 20180326-5109

Comments Due: 5 p.m. ET 4/16/18.

Docket Numbers: ER18-1172-000.

Applicants: Southern California Edison Company.

Description: § 205(d) Rate Filing: GIA & DSA Santa Ana Storage Project SA Nos. 1006-1007 to be effective3/14/2018.

Filed Date: 3/26/18.

Accession Number: 20180326-5114

Comments Due: 5 p.m. ET 4/16/18.

Docket Numbers: ER18-1173-000.

Applicants: Midcontinent Independent System Operator.

Description: § 205(d) Rate Filing: 2018-03-26_Enhance Locational Aspect of Resource Adequacy Construct to be effective 5/30/2018.

Filed Date: 3/26/18.

Accession Number: 20180326-5174.

Comments Due: 5 p.m. ET 4/16/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2018.
Kimberly D. Bose,
Secretary.

[FR Doc. 2018-06575 Filed 3-30-18; 8:45 am]

BILLING CODE 6717-01-P